OFFICE OF MANAGEMENT AND BUDGET

Designation of Databases for Treasury's Working System Under the Do Not Pay Initiative

AGENCY: Office of Management and Budget.

ACTION: Notice of designation.

SUMMARY: The Payment Integrity Information Act of 2019 (PIIA) authorizes the Office of Management and Budget (OMB) to designate databases for inclusion in Treasury's Working System under the Do Not Pay (DNP) Initiative. PIIA further requires OMB to provide public notice and opportunity for comment prior to designating additional databases. In fulfillment of this requirement, on January 22, 2021, OMB published a Notice of Proposed Designation for 12 additional databases. OMB received one comment during the 30-day comment period for this notice; however, the suggestions found therein did not preclude further action for the formal designation of the databases into Treasury's Working System. Effective immediately, OMB designates the following 12 databases: The United States Postal Service (USPS) Delivery Sequence File, the Census Bureau Federal Audit Clearinghouse, the Do Not Pay (DNP) Agency Adjudication Data, Fiscal Service's Payments, Claims, and Enhanced Reconciliation (PACER) database, Bureau of Prisons (BOP) Incarceration Data, Digital Accountability and Transparency Act (DATA Act) data, Census Bureau's American Communities Survey (ACS) Annual State and County Data Profiles, Veterans Affairs' (VA) Beneficiary Identification Records Locator Service (BIRLS), Department of Agriculture's National Disqualified List (NDL), Center for Medicare and Medicaid Services (CMS) National Plan and Provider Enumeration System (NPPES), Internal Revenue Service's (IRS) Statistics of Income (SOI) Annual Individual Income Tax ZIP Code Data, and the U.S. Securities and Exchange Commission's (SEC) Electronic Data Gathering, Analysis, and Retrieval (EDGAR) System.

FOR FURTHER INFORMATION CONTACT: Regina Kearney at the OMB Office of Federal Financial Management at (202) 395-3993.

Shalanda Young,
Acting Director.

[FR Doc. 2021-10025 Filed 5-11-21; 8:45 am]

BILLING CODE 3110-01-P